DEPARTMENT OF HEALTH AND HUMAN SERVICES

National Institutes of Health

National Library of Medicine; Amended Notice of Meeting

Notice is hereby given of a change in the meeting of the Board of Scientific Counselors, National Library of Medicine, December 3, 2001, 7 pm to December 4, 2001, 2 pm, National Library of Medicine, 8600 Rockville Pike, Board Room, Bethesda, MD 20894 which was published in the Federal Register on October 15, 2001, 66 FR 52440.

The meeting will be held on December 4, 2001 from 8:30 am to 4 pm. The meeting is closed to the public.

Dated: November 6, 2001.
LaVerne Y. Stringfield,
Director, Office of Federal Advisory Committee Policy.

[FR Doc. 01-28695 Filed 11-15-01; 8:45 am]

BILLING CODE 4140-01-M